DEPARTMENT OF HEALTH AND HUMAN SERVICES

Administration for Children and Families

Submission for OMB Review; Comment Request

Title: Personal Responsibility Education Program (PREP) Promising Youth Programs (PYP).

OMB No.: New Collection.

Description: The Personal Responsibility Education Program (PREP) grantees provide education to adolescents on both abstinence and contraception for the prevention of pregnancy and sexually transmitted infections, as well as education on additional topics to prepare youth for adulthood. PREP programs are overseen by the Family and Youth Services Bureau (FYSB), in the Administration for Children and Families (ACF), in the U.S. Department of Health and Human Services (HHS).

The Promising Youth Programs (PYP) project supports PREP programming in two ways. First, it supports PREP grantees as they collaborate with independent evaluators to conduct evaluations of their programs. Second, it is working to develop curricula to address PREP-related needs for underserved youth. PYP is overseen by ACF's Office of Planning, Research, and Evaluation (OPRE). To support the PYP project, FYSB and OPRE seek approval to collect the following information:

(1) Abstract template: We will annually ask grantees and their independent evaluators to develop/update abstracts about their evaluations.

(2) CONSORT (CONsolidated Standards of Reporting Trials) diagram template: We will bi-annually ask grantees and their independent evaluators for information about study recruitment, enrollment, and retention.

(3) Baseline equivalence template: We will bi-annually ask grantees and their independent evaluators for information that demonstrates whether program and comparison groups are comparable.

(4) Youth discussions topic guide: We will hold discussions with youth from target populations about their perceptions of PREP-related programming.

Respondents: Grantees and their independent evaluators; and youth from target populations.

Annual Burden Estimates
Instrument | Total number of respondents | Annual number of respondents | Number of responses per respondent (annually) | Average burden hours per response | Annual burden hours
(1) Abstract template | 29 | 29 | 1 | 3 | 87
(2) CONSORT diagram template | 29 | 29 | 2 | 1 | 58
(3) Baseline equivalence template | 16 | 16 | 2 | 2 | 64
(4) Youth discussions topic guide | 64 | 21 | * 1 | 1.5 | 32
* Total.

Estimated Total Annual Burden Hours: 241.

Additional Information: Copies of the proposed collection may be obtained by writing to the Administration for Children and Families, Office of Planning, Research and Evaluation, 330 C Street SW., Washington, DC 20201, Attn: OPRE Reports Clearance Officer. All requests should be identified by the title of the information collection. Email address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Mary Jones,
ACF/OPRE Certifying Officer.

[FR Doc. 2017-16671 Filed 8-7-17; 8:45 am]

BILLING CODE 4184-37-P